DEPARTMENT OF THE INTERIOR

National Park Service

[NPS-WASO-NAGPRA-NPS0033901; PPWOCRADN0-PCU00RP14.R50000]

Notice of Inventory Completion: Robert S. Peabody Museum of Archaeology, Andover, MA; Correction; Correction

AGENCY: National Park Service, Interior.

ACTION: Notice; correction.

SUMMARY: The Robert S. Peabody Institute of Archaeology (formerly the Robert S. Peabody Museum of Archaeology) has further corrected an inventory of human remains and associated funerary objects originally published in a Notice of Inventory Completion in the Federal Register on September 13, 2005, and subsequently corrected in a Notice of Inventory Completion Correction published in the Federal Register on December 21, 2018. This notice further corrects the number of associated funerary objects. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by June 23, 2022.

FOR FURTHER INFORMATION CONTACT: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the correction of an inventory of human remains and associated funerary objects under the control of the Robert S. Peabody Institute of Archaeology, Andover, MA. The human remains and associated funerary objects were removed from the Etowah site, Bartow County, GA and Little Egypt site, Murray County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice further corrects the number of associated funerary objects published in a Notice of Inventory Completion in the Federal Register (70 FR 54075-54076, September 13, 2005) and initially corrected in a Notice of Inventory Completion Correction in the Federal Register (83 FR 65726-65727, December 21, 2018). In June 2021, the Rochester Museum & Science Center in Rochester, NY, transferred control of human remains and associated funerary objects to the Robert S. Peabody Institute of Archaeology to aid in the repatriation of ancestral remains and belongings from Etowah. These human remains and associated belongings had been removed by Warren K. Moorehead between 1925 and 1928 and given to the Rochester Museum & Science Center in 1931. The updated counts and descriptions of the associated funerary objects reflect this transfer. Two additional items are counted among the associated funerary objects in this correction notice—one that was recently identified and one that had been stolen from the Peabody Institute and has been returned. Transfer of control of all the items listed in this correction notice has not occurred.

Correction

In the Federal Register (83 FR 65726, December 21, 2018), column 3, paragraph 1, sentence 2, under the heading “Correction” is corrected by substituting the following sentence:

Between 1925 and 1928, human remains representing a minimum of 95 individuals were removed from the Etowah site, Bartow County, GA, by Warren King Moorehead of the Robert S. Peabody Institute of Archaeology.

In the Federal Register (83 FR 65726, December 21, 2018), column 3, paragraph 2, sentence 2, under the heading “Correction” is corrected by substituting the following sentence:

The 24,826 associated funerary objects are 34 animal bone fragments and fragment lots; one dog burial; one basketry fragment with clay matrix lot; three burnt clay, ceramic sherds, and animal bones in lot; one ceramic bead; two ceramic elbow pipes; two ceramic basket- or canoe-shaped pipe; one ceramic pipe; one ceramic handle; 22 ceramic sherds; nine ceramic vessels; one lot of charcoal and soil; one concretion; two fragments of a copper axe with wooden handle; one copper covered wooden top knot, serpent shaped; two copper disks; 680 copper fragments, including wood fragments, copper bilobed arrow ornament, mica, adhered shell beads, textile and matting fragments, animal bone; 90 copper headdress, hair ornaments and fragments; 69 copper repousse plates and fragments; three fragments of daub and fire-hardened soil; 175 freshwater pearl beads; 56 freshwater periwinkle shells; seven freshwater shells and fragments; one fur fragment with copper staining; four galena crystals; one bear canine; one kaolin core with copper; one lot of kaolin, bark, animal bone fragments, mica, soil, and ceramic sherds; four large flint bifaces or swords; 11 chipped stone projectile points; one ground stone tool fragment; three leather fragments; one limestone spatulate celt; one lump of mineral ore; 108 matting fragments, including copper stained matting, textiles, and adhered shell beads; 83 mica fragments, some with copper stained matrix; 405 miscellaneous shells and small shells; 12 modified animal bone fragments; one quartz preform; 22,528 shell beads, including divers sizes and shapes (round, ovoid, tubular, disc, barrel, elongated, irregular), as well as mixed lots of shell beads, freshwater pearl beads, Olivella and Marginella shell beads, soil matrix, ceramic sherds, as well as copper stained shell beads, and fragments of deteriorated beads; two rough shell disks; 13 shell gorgets and gorget fragments; 166 small stones; three soil samples; 10 pieces of wood and animal bone mixed with soil in lot; five stone celts and fragments; five stone discoidals; 10 textile fragments, including some mixed lots with wood, copper fragments, and shell beads; nine tortoise shell strips or bands; one unmodified horse conch shell; six whelk shell cup fragments; 22 whelk shell fragments; one shell dipper; two whelk shell columella ornaments and fragments; 237 wood fragments, and mixed lots of wood with copper staining, mica, and soil; one worked stone fragment; two large Atlantic cockle shells; and one “puffball” fungus.

In the Federal Register (70 FR 54076, September 13, 2005), column 2, paragraph 1, sentence 1 is corrected by substituting the following sentence:

Officials of the Robert S. Peabody Institute of Archaeology have determined that, pursuant to 25 U.S.C. 3001 (9-10), the human remains described above represent the physical remains of 105 individuals of Native American ancestry.

In the Federal Register (83 FR 65727, December 21, 2018), column 1, paragraph 3 is corrected by substituting the following sentence:

Officials of the Robert S. Peabody Institute of Archaeology have determined that, pursuant to 25 U.S.C. 3001 (3)(A), the 24,869 objects described above are reasonably believed to have been placed with or near individual human remains at the time of death or later as part of a death rite or ceremony.

Additional Requestors and Disposition

Lineal descendants or representatives of any Indian tribe or Native Hawaiian organization not identified in this notice that wish to request transfer of control of these human remains and associated funerary objects should submit a written request with information in support of the request to Ryan Wheeler, Robert S. Peabody Institute of Archaeology, Phillips Academy, 180 Main Street, Andover, MA 01810, telephone (978) 749-4490, email rwheeler@andover.edu, by June 23, 2022. After that date, if no additional requestors have come forward, transfer of control of the human remains and associated funerary objects to the Alabama-Quassarte Tribal Town; Kialegee Tribal Town; Poarch Band of Creek Indians [previously listed as Poarch Band of Creeks]; The Muscogee (Creek) Nation; and the Thlopthlocco Tribal Town (hereafter referred to as “The Tribes”) may proceed.

The Robert S. Peabody Institute of Archaeology is responsible for notifying The Tribes that this notice has been published.

Dated: May 4, 2022.
Melanie O'Brien,
Manager, National NAGPRA Program.

[FR Doc. 2022-11080 Filed 5-23-22; 8:45 am]

BILLING CODE 4312-52-P